SURFACE TRANSPORTATION BOARD

[Docket No. EP 519 (Sub-No. 5)]

Renewal of National Grain Car Council

AGENCY: Surface Transportation Board.

ACTION: Notice of intent to renew charter.

SUMMARY: In accordance with the Federal Advisory Committee Act, notice is hereby given that the Surface Transportation Board (Board) intends to renew the charter of the National Grain Car Council (NGCC).

ADDRESSES: A copy of the charter is available on the Board's website at https://www.stb.gov/stb/rail/graincar_council.html.

FOR FURTHER INFORMATION CONTACT: Michael Small, Designated Federal Officer, at (202) 245-0381. Assistance for the hearing impaired is available through the Federal Relay Service at (800) 8778339.

SUPPLEMENTARY INFORMATION: The NGCC functions as a continuing working group to facilitate private-sector solutions and recommendations to the Board on matters affecting grain transportation. The NGCC functions solely as an advisory body and complies with the provisions of the Federal Advisory Committee Act (FACA), 5 U.S.C. app., and its implementing regulations.

The NGCC consists of approximately 42 members, excluding the governmental representatives. The membership comprises a balanced representation of individuals knowledgeable in the transportation of grain, including no fewer than 14 members from the Class I railroads (one marketing and one car management representative from each Class I), 7 representatives from Class II and III carriers, 14 representatives from grain shippers and receivers, and 7 representatives from private car owners and car manufacturers. The members of the Board are ex officio (non-voting) members of the NGCC, and the Vice Chairman of the Board is designated as Co-Chairman of the NGCC.

The NGCC meets at least annually, and meetings are open to the public, consistent with the Government in the Sunshine Act, Public Law 94-409 (1976).

Further information about the NGCC is available on the Board's website (https://www.stb.gov/stb/rail/graincar_council.html) and at the General Services Administration's FACA database (https://facadatabase.gov/).

Decided: September 20, 2019.
By the Board, Allison C. Davis, Director, Office of Proceedings.
Kenyatta Clay,
Clearance Clerk.

[FR Doc. 2019-20786 Filed 9-24-19; 8:45 am]

BILLING CODE 4915-01-P